DEPARTMENT OF COMMERCE

International Trade Administration

[A-427-818]

Low Enriched Uranium From France: Final Results of Expedited Sunset Review of the Antidumping Duty Order

AGENCY: Import Administration, International Trade Administration, U.S. Department of Commerce.

EFFECTIVE DATE: May 10, 2007.

FOR FURTHER INFORMATION CONTACT: Myrna Lobo or Douglas Kirby, Office 6, AD/CVD Operations, Import Administration, International Trade Administration, U.S. Department of Commerce, 14th Street and Constitution Avenue, NW., Washington, DC 20230; telephone: (202) 482-2371, or (202) 482-3782, respectively.

SUMMARY: On January 3, 2007, the Department of Commerce (the Department) initiated a sunset review of the antidumping duty order on low enriched uranium (LEU) from France pursuant to section 751(c) of the Tariff Act of 1930, as amended (the Act). On the basis of a notice of intent to participate and an adequate substantive response filed on behalf of domestic interested parties and an inadequate response from respondent interested party, the Department has conducted an expedited (120-day) sunset review of this order pursuant to section 751(c)(3)(B) and section 351.218(e)(1)(ii)(C)(2) of the Department's regulations. As a result of this sunset review, the Department finds that revocation of the antidumping duty order is likely to lead to continuation or recurrence of dumping at the level indicated in the “Final Results of Review” section of this notice.

SUPPLEMENTARY INFORMATION:

Background

On January 3, 2007, the Department published the notice of initiation of the first sunset review of the antidumping duty order on LEU from France pursuant to section 751(c) of the Act. See Initiation of Five-year (Sunset) Reviews, 72 FR 100 (January 3, 2007). The Department received a notice of intent to participate from USEC Inc. and its subsidiary United States Enrichment Corporation (collectively USEC), the domestic party, within the deadline specified in section 351.218(d)(1)(i) of the Department's regulations (Sunset Regulations). USEC claimed interested party status under section 771(9)(C) of the Act, as a domestic producer of LEU. The Department also received a timely notice of appearance from respondent interested party Eurodif S.A.¹ (Eurodif), a French producer and exporter of LEU. Eurodif claimed interested party status under section 771(9)(A) of the Act. On February 2, 2007, the Department received a complete substantive response from USEC, within the 30-day deadline specified in section 351.218(d)(3)(i) of the Department's regulations. On the same day, the Department received a substantive response from Eurodif. In addition, on the same day, the Department received a notice of appearance and a substantive response from the Ad Hoc Utilities Group ² (AHUG), an industry group comprised of owners and operators of U.S. nuclear power plants. Although AHUG claimed respondent interested party status under section 771(9)(A) of the Act, the Department determined it was not a respondent or an interested party pursuant to section 771(9)(A) of the Act. See Memorandum to Stephen J. Claeys, Deputy Assistant Secretary for Import Administration; Sunset Review of the Antidumping Duty Order on Low Enriched Uranium from France: Adequacy Determination dated February 22, 2007 (Adequacy Memorandum), which is on file in B-099, the Central Records Unit of the main Commerce building (CRU). Also see Memorandum to Stephen J. Claeys, Deputy Assistant Secretary for Import Administration; Comments Regarding Adequacy Determination: Sunset Review of the Antidumping Duty Order on Low Enriched Uranium from France, dated April 5, 2007 (Comments to Adequacy Memorandum), which is also on file in the CRU. The Department found that Eurodif's response was not adequate and therefore determined to conduct an expedited review. See Adequacy Memorandum. Subsequently, comments to the Department's Adequacy Memorandum were received from all parties. In those comments, USEC supported the Department's determination to conduct an expedited review, while Eurodif and AHUG argued in favor of a full sunset review. The Department responded to these comments, affirming it would not reverse its decision to conduct an expedited review in its Comments to Adequacy Memorandum. Accordingly, pursuant to section 751(c)(3)(B) of the Act and section 351.218(e)(1)(ii)(C)(2) of the Department's regulations, the Department conducted an expedited (120-day) sunset review of this order.

¹ Eurodif S.A.'s affiliate companies are AREVA (formerly Compagnie Generale des Matieres Nucleaires (COGEMA)), an owner of Eurodif, AREVA NC and AREVA NC, Inc., sellers of enrichment services.

² The members of AHUG are Constellation Energy Group, Inc., Dominion Energy Kewaunee, Inc., Dominion Nuclear Connecticut, Inc., Duke Energy Corp., Entergy Services, Inc., Exelon Generation Co., LLC, Nebraska Public Power District, Pacific Gas & Electric Co., PPL Susquehanna, LLC, Progress Energy Carolinas, Inc., Progress Energy Florida, Inc., Southern California Edison Co., Southern Nuclear Operating Co., Union Electric Co. (d/b/a/ Ameren UE), TXU Generation Co. LP, and Virginia Electric & Power Co.

Scope of the Order

The product covered by this order is all low enriched uranium (LEU). LEU is enriched uranium hexafluoride (UF6) with a U²³⁵ product assay of less than 20 percent that has not been converted into another chemical form, such as UO2, or fabricated into nuclear fuel assemblies, regardless of the means by which the LEU is produced (including LEU produced through the down-blending of highly enriched uranium).

Certain merchandise is outside the scope of this order. Specifically, this order does not cover enriched uranium hexafluoride with a U²³⁵ assay of 20 percent or greater, also known as highly enriched uranium. In addition, fabricated LEU is not covered by the scope of this order. For purposes of this order, fabricated uranium is defined as enriched uranium dioxide (UO2), whether or not contained in nuclear fuel rods or assemblies. Natural uranium concentrates (U3O8) with a U²³⁵ concentration of no greater than 0.711 percent and natural uranium concentrates converted into uranium hexafluoride with a U²³⁵ concentration of no greater than 0.711 percent are not covered by the scope of this order.

Also excluded from this order is LEU owned by a foreign utility end-user and imported into the United States by or for such end-user solely for purposes of conversion by a U.S. fabricator into uranium dioxide (UO2) and/or fabrication into fuel assemblies so long as the uranium dioxide and/or fuel assemblies deemed to incorporate such imported LEU (i) remain in the possession and control of the U.S. fabricator, the foreign end-user, or their designed transporter(s) while in U.S. customs territory, and (ii) are re-exported within eighteen (18) months of entry of the LEU for consumption by the end-user in a nuclear reactor outside the United States. Such entries must be accompanied by the certifications of the importer and end-user.

The merchandise subject to this order is currently classifiable in the Harmonized Tariff Schedule of the United States (HTSUS) at subheading 2844.20.0020. Subject merchandise may also enter under 2844.20.0030, 2844.20.0050, and 2844.40.00. Although the HTSUS subheadings are provided for convenience and customs purposes, the written description of the merchandise is dispositive.

Analysis of Comments Received

All issues raised in this review are addressed in the Issues and Decision Memorandum for Final Results of Expedited Sunset Review of the Antidumping Duty Order on Low Enriched Unranium from France (Decision Memorandum) from Stephen J. Claeys, Deputy Assistant Secretary for Import Administration, to David M. Spooner, Assistant Secretary for Import Administration, dated May 3, 2007, which is hereby adopted by this notice. The issues discussed in the Decision Memorandum include the likelihood of continuation or recurrence of dumping and the magnitude of the margins likely to prevail if the order were to be revoked. Parties can find a complete discussion of all issues raised in this review and the corresponding recommendations in this public memorandum which is on file in the CRU. In addition, a complete version of the Decision Memorandum can be accessed directly on the Web at http://ia.ita.doc.gov/frn. The paper copy and electronic versions of the Decision Memorandum are identical in content.

Final Results of Review

The Department determines that revocation of the antidumping duty order on low enriched uranium from France would be likely to lead to continuation or recurrence of dumping at the following weighted-average percentage margins:

Manufacturers/exporters/ producers | Weighted average margin (percent)
Eurodif/AREVA | 19.95
All Others | 19.95

International Trade Commission (ITC) Notification

Pursuant to section 752(c)(3) of the Act, we will notify the ITC of the final results of this expedited sunset review.

Notification Regarding Administrative Protective Order

This notice serves as the only reminder to parties subject to administrative protective order (APO) of their responsibility concerning the disposition of proprietary information disclosed under APO in accordance with 19 CFR 351.305. Timely notification of return/destruction of APO materials or conversion to judicial protective order is hereby requested. Failure to comply with the regulations and the terms of an APO is a violation which is subject to sanction.

This notice is issued and published in accordance with sections 751(c), 752, and 777(i)(1) of the Act.

Dated: May 3, 2007.
David M. Spooner,
Assistant Secretary for Import Administration.

[FR Doc. E7-9038 Filed 5-9-07; 8:45 am]

BILLING CODE 3510-DS-P